DEPARTMENT OF VETERANS AFFAIRS

Advisory Committee on Minority Veterans, Notice of Meeting

The Department of Veterans Affairs (VA) gives notice under the Federal Advisory Committee Act, 5 U.S.C. Ch. 10, that the Advisory Committee on Minority Veterans will meet on February 20-22, 2024, at the Department of Veterans Affairs, 810 Vermont Avenue NW, Conference Room 230, Washington, DC. The meeting sessions will begin and end as follows:

Date | Time | Location | Open session
February 20, 2024 | 8:00 a.m.-2:45 p.m. Eastern Standard Time (EST) | 810 Vermont Avenue (NW), Washington, DC 20420, Room 230 | Yes.
February 21, 2024 | 8:00 a.m.-11:00 a.m. EST | 810 Vermont Avenue (NW), Washington, DC 20420, Room 530 | Yes.
February 21, 2024 | 12:30 p.m.-4:30 p.m. EST | 300 Army Navy Drive, Arlington, VA 22202 | Yes.
February 22, 2024 | 8:00 a.m.-12:00 p.m. EST | 810 Vermont Avenue (NW), Washington, DC 20420, Room C-7 | Yes.

This meeting is open to the public.

The purpose of the Committee is to advise the Secretary on the administration of VA benefits by the Department for Veterans who are minority group members, by reviewing reports and studies on compensation, health care, rehabilitation, outreach, and other benefits and services administered by the Department. The Committee makes recommendations to the Secretary regarding such activities.

On February 20th, the Committee will receive briefings and updates from the Veterans Health Administration, Veterans Benefits Administration, National Cemetery Administration, Veterans Experience Office, and Center for Women Veterans. On February 21st, the Committee will receive briefings and updates from the National Association of State Directors of Veterans Affairs. On February 22nd, the Committee will receive briefings and updates from the Office of Equity Assurance and the Office of Public and Intergovernmental Affairs. The Committee will receive public comments from 11:45 a.m. to 11:55 a.m. EST. Afterwards, the Committee will continue to work on their report.

A sign-in sheet for those who want to give comments will be available at the meeting. Individuals who speak are invited to submit a 1-2-page summary of their comments at the time of the meeting for inclusion in the official meeting record. Members of the public may also submit written statements for the Committee's review to Mr. Dwayne E. Campbell, Department of Veterans Affairs, Center for Minority Veterans (00M), 810 Vermont Avenue NW, Washington, DC 20420, or email at Dwayne.Campbell3@va.gov. Because the meeting will be in a government building, anyone attending must be prepared to show a valid photo ID for checking in. Please allow 15 minutes before the meeting begins for this process. Any member of the public wishing to attend or seeking additional information should contact Mr. Campbell or Mr. Ronald Sagudan at (202) 461-6191, or by fax at (202) 273-7092.

Dated: January 23, 2024.
Jelessa M. Burney,
Federal Advisory Committee Management Officer.

[FR Doc. 2024-01616 Filed 1-26-24; 8:45 am]

BILLING CODE P